DEPARTMENT OF AGRICULTURE

Animal and Plant Health Inspection Service

9 CFR Part 93

[Docket No. APHIS-2006-0020]

States Approved To Receive Stallions and Mares From CEM-Affected Regions; Indiana

AGENCY: Animal and Plant Health Inspection Service, USDA.

ACTION: Direct final rule; confirmation of effective date.

SUMMARY: On April 27, 2006, the Animal and Plant Health Inspection Service published a direct final rule. (See 71 FR 24806-24808.) The direct final rule notified the public of our intention to amend the animal importation regulations by adding Indiana to the lists of States approved to receive certain stallions and mares imported into the United States from regions affected with contagious equine metritis. We did not receive any written adverse comments regarding the addition of Indiana to those lists or written notice of intent to submit adverse comments in response to the direct final rule.

DATES: Effective Date: The effective date of the direct final rule is confirmed as June 26, 2006.

FOR FURTHER INFORMATION CONTACT: Dr. Freeda E. Isaac, Senior Staff Veterinarian, National Center for Import and Export, VS, APHIS, 4700 River Road Unit 39, Riverdale, MD 20737-1231; (301) 734-8364.

Authority: 7 U.S.C. 1622 and 8301-8317; 21 U.S.C. 136 and 136a; 31 U.S.C. 9701; 7 CFR 2.22, 2.80, and 371.4.

Done in Washington, DC, this 9th day of June 2006.
Kevin Shea,
Acting Administrator, Animal and Plant Health Inspection Service.

[FR Doc. E6-9350 Filed 6-14-06; 8:45 am]

BILLING CODE 3410-34-P